NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 26, 2008. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Food Safety and Inspection Service (N1-462-07-1, 1 item, 1 temporary item). Master file associated with an electronic information system used to analyze food inspection performance data. The proposed disposition instructions are limited to electronic records.

2. Department of Homeland Security, Office of Public Affairs (N1-563-07-17, 13 items, 8 temporary items). Non-executive level biographies; routine photographs; agreements for non-governmental, entertainment-oriented projects requesting use of the agency seal, insignia, and other assistance; and working papers and background materials. Proposed for permanent retention are executive level biographies, communication plans, mission-related photographs, press conference records, and press releases.

3. Department of Homeland Security, United States Citizenship and Immigration Services (N1-566-08-12, 2 items, 2 temporary items). Inputs and master file associated with a local area network that tracks the adjudication of applications and petitions for immigration benefits and services except those related to asylum and naturalization.

4. Department of Homeland Security, United States Citizenship and Immigration Services (N1-566-08-13, 2 items, 2 temporary items). Inputs and master file associated with a mainframe system that tracks the adjudication of applications and petitions for immigration benefits and services except those related to asylum and naturalization.

5. Department of Homeland Security, United States Citizenship and Immigration Services (N1-566-08-14, 2 items, 2 temporary items). Inputs and master file associated with an electronic consolidated database used as a repository for centralized agency reporting and managerial capabilities.

6. Department of Homeland Security, United States Immigration and Customs Enforcement (N1-567-08-2, 1 item, 1 temporary item). Office of Investigations confidential informant case files.

7. Department of Justice, Bureau of Alcohol, Tobacco, Firearms, and Explosives (N1-436-07-04, 2 items, 2 temporary items). Master file and inputs used in the oversight and analysis of the Capital Planning and Investment Control process.

8. Department of Justice, Bureau of Alcohol, Tobacco, Firearms and Explosives (N1-436-08-9, 9 items, 9 temporary items). Records relating to the agency's public website, including web content, management, and technical records.

9. Department of Justice, Bureau of Alcohol, Tobacco, Firearms and Explosives (N1-436-08-12, 6 items, 6 temporary items). Master file, inputs, and outputs of the accident claim tort tracking system and vehicle accident tracking system.

10. Department of Justice, Bureau of Alcohol, Tobacco, Firearms and Explosives (N1-436-08-14, 2 items, 2 temporary items). Master file and inputs of the Trace Operations, Workflow, and Reporting System, which supports the Firearms Tracing System.

11. Department of Justice, Bureau of Alcohol, Tobacco, Firearms and Explosives (N1-436-08-15, 2 items, 2 temporary items). Master file and inputs of the eTrace system, which supports the Firearms Tracing System.

12. Department of Justice, Bureau of Alcohol, Tobacco, Firearms and Explosives (N1-436-08-16, 1 item, 1 temporary item). Master file consisting of training materials and training documentation of employees.

13. Department of Justice, Criminal Division (N1-60-08-13, 1 item, 1 temporary item). Master file for an electronic information system, which tracks applications for S-class visa status.

14. Department of Justice, Federal Bureau of Investigation (N1-65-07-22, 14 items, 6 temporary items). Reference files, work papers, and audit logs of the Uniform Crime Reporting Program. Proposed for permanent retention are annual statistical reports, handbooks and manuals, special statistical publications, and the master files, for the following electronic systems: Summary Reporting, National Incident-Based Reporting, Hate Crime Statistics, and Law Enforcement Officers Killed and Assaulted.

15. Department of Justice, Federal Bureau of Investigation (N1-65-08-3, 12 items, 8 temporary items). Inputs, outputs, audit logs, and backups of the Foreign Intelligence Surveillance Act Management System and the National Security Letter Subsystem. Proposed for permanent retention are the master files and system documentation for both systems.

16. Department of Justice, Federal Bureau of Investigation (N1-65-08-11, 4 items, 4 temporary items). Master file and inputs of the Terrorist Review and Examination Unit Watchlist Nomination Log, which facilitates nomination and inclusion of suspected terrorist investigation subjects onto watchlists.

17. Department of Justice, Federal Bureau of Investigation (N1-65-08-12, 1 item, 1 temporary item). Master file for the document control system used to maintain accountability and control for handling of classified documents.

18. Department of Justice, Federal Bureau of Investigation (N1-65-08-13, 10 items, 10 temporary items). Website and program records for an information sharing network for public and private collaboration in identifying and decreasing national critical infrastructure vulnerabilities.

19. Department of Justice, Federal Bureau of Investigation (N1-65-08-14, 4 items, 4 temporary items). Master file, outputs, documentation, and audit logs for the decommissioned Data Extraction and Extension Project, which consolidates information about counterterrorism investigations.

20. Department of Justice, Justice Management Division (N1-60-08-6, 1 item, 1 temporary item). Master file of the Rent Management System, which tracks real property and space management data to produce accurate rent billings and perform rent budgeting functions.

21. Federal Communications Commission, Office of Engineering and Technology (N1-173-08-4, 1 item, 1 temporary item). Master file for an electronic information system used to address questions related to policy and guidelines regarding telecommunication equipment authorizations.

22. Federal Communications Commission, Office of Engineering and Technology (N1-173-08-5, 1 item, 1 temporary item). Master file for an electronic information system used to document receipt and disposal of sample equipment.

23. Federal Maritime Commission, Bureau of Trade Analysis (N1-358-08-07, 3 items, 3 temporary items). Carrier and marine terminal operator agreement files, subject files, and copies of trade studies for the Office of Agreements/Office of Economics and Competition Analysis.

Dated: May 20, 2008.
Michael J. Kurtz,
Assistant Archivist for Records Services—Washington, DC.

[FR Doc. E8-11791 Filed 5-23-08; 8:45 am]

BILLING CODE 7515-01-P